FEDERAL COMMUNICATIONS COMMISSION

47 CFR Part 73

[MB Docket No. 02-230; FCC 03-273]

Digital Broadcast Content Protection

AGENCY: Federal Communications Commission.

ACTION: Final rule; announcement of effective date.

SUMMARY: The Federal Communications Commission has received Office of Management and Budget (OMB) approval for the new public information collection, Digital Broadcast Content Protection, MB Docket 02-230, OMB Control Number 3060-1049. Therefore, the Commission announces that OMB Control No. 3060-1049 and associated rules 47 CFR 73.9002 and 73.9008 are effective January 20, 2004.

DATES: The rules in 47 CFR 73.9002 and 73.9008 published at 68 FR 67599 (December 3, 2003) are effective January 20, 2004.

SUPPLEMENTARY INFORMATION: The Federal Communications Commission has received OMB approval for a new information collection in Digital Broadcast Content Protection, MB Docket No. 02-230, 68 FR 67599, December 3, 2003, which includes interim approval procedures for digital content protection and recording technologies, as well as written commitment regimes for manufacturers and importers of both demodulators and products where the demodulator and transport stream processor are physically separate. Through this document, the Commission announces that it received this approval on January 8, 2004; OMB Control No. 3060-1049. The effective date for this collection and associated rules 47 CFR 73.9002 and 73.9008 is January 20, 2004.

Pursuant to the Paperwork Reduction Act of 1995, Public Law 104-13, an agency may not conduct or sponsor a collection of information unless it displays a currently valid control number. Notwithstanding any other provisions of law, no person shall be subject to any penalty for failing to comply with a collection of information subject to the Paperwork Reduction Act (PRA) that does not display a valid control number. Questions concerning the OMB control numbers and expiration dates should be directed to Leslie F. Smith, Federal Communications Commission, (202) 418-0217 or via the Internet at leslie.smith@fcc.gov.

Federal Communications Commission.
Marlene H. Dortch,
Secretary.

[FR Doc. 04-1190 Filed 1-16-04; 8:45 am]

BILLING CODE 6712-01-U